DEPARTMENT OF THE TREASURY

Financial Management Service

Privacy Act of 1974, System of Records

AGENCY: Financial Management Service, Treasury.

ACTION: Notice of alterations to two Department of the Treasury, Financial Management Service (FMS), Privacy Act Systems of Records.

SUMMARY: In accordance with the Privacy Act of 1974 (5 U.S.C. 552a), the Department of the Treasury, Financial Management Service (FMS), gives notice of proposed alterations to two of its existing systems of records, as follows: “Payment Issue Records for Regular Recurring Benefit Payments—Treasury/FMS .002” and “Payment Records for Other Than Regular Recurring Benefit Payments .016.” The systems of records were last published in the Federal Register in their entirety on August 22, 2001, beginning in 66 FR 44204. An alteration to the systems was published in the Federal Register on February 26, 2003, in 68 FR 8964.

DATES: Comments must be received no later than May 1, 2003. The proposed systems of records will be effective May 12, 2003 unless FMS receives comments which would result in a contrary determination.

ADDRESSES: Comments must be submitted to Federal Finance, Financial Management Service, 401 14th Street, SW., Room 426B, Washington, DC 20227, or by electronic mail to michael.dressler@fms.treas.gov. Comments received will be available for inspection at the same address between the hours of 9 a.m. and 4 p.m. Monday through Friday.

FOR FURTHER INFORMATION CONTACT: Michael Dressler, Financial Management Service, Federal Finance, (202) 874-7082.

SUPPLEMENTARY INFORMATION: The Financial Management Service (FMS) is the money manager for the Federal Government. As such, FMS disburses over 900 million payments totaling more than $1.64 trillion in social security and veterans' benefits, income tax refunds, and other federal payments. In the operation of its payment programs, FMS maintains records on individuals who receive payments from the Federal Government. Records on individuals who receive Federal payments are maintained in FMS's “Payment Issue Records for Regular Recurring Benefit Payments-Treasury/FMS .002,” and “Payment Records for Other Than Regular Recurring Benefit Payments-Treasury/FMS .016.”

As part of its continuing efforts to efficiently operate and manage its payment disbursement processes, FMS sometimes retains the services of its fiscal agents (the Federal Reserve Banks (FRBs)), financial agents (financial institutions), and/or contractors of FMS or FMS's fiscal or financial agents. For example, FMS may ask the FRB and/or a contractor to assist FMS in surveying payment recipients to ascertain public attitudes about direct deposit and other alternatives to check payments. Such services assist FMS in determining the most efficient and effective way to deliver Government payments to the public. Disclosures of information maintained in FMS's systems of records, specifically, a payee's name and address, may be required in order for the FRB or a contractor to perform the services for which it has been retained. If disclosure to a financial agent or contractor is necessary, the financial agent or contractor to which disclosure is made will be subject to the same limitations applicable to FMS officers and employees under the Privacy Act. This means that the financial agent or contractor is required to safeguard Privacy Act information to prevent unauthorized use or disclosure of any Privacy Act records. In addition, the FRB and regulated financial institutions impose their own strict limitations concerning the protection of non-public personal information.

FMS is altering the referenced systems of records to allow disclosure of information from such systems to its fiscal or financial agents, their employees, agents or contractors, or to a private contractor as necessary to efficiently operate and manage its payment disbursement processes.

For the reasons set forth above, FMS proposes to alter its systems of records as follows:

Treasury/FMS .002

System name:

Payment Issue Records for Regular Recurring Benefit Payments—Treasury/Financial Management Service.

* * * * *

Routine uses of records maintained in the system, including categories of users and purposes of such uses:

* * * * *

Description of change:

The period “.” at the end of routine use (14) is replaced with a semicolon “;”, and the following routine use is added at the end thereof:

“(15) Disclose information to a fiscal or financial agent of the Financial Management Service, its employees, agents, and contractors, or to a contractor of the Financial Management Service, for the purpose of ensuring the efficient administration of payment processing services, subject to the same or equivalent limitations applicable to FMS officers and employees under the Privacy Act.”

* * * * *

Treasury/FMS .016

System name:

Payment Records for Other Than Regular Recurring Benefit Payments—Treasury/Financial Management Service.

* * * * *

Routine uses of records maintained in the system, including categories of users and purposes of such uses:

* * * * *

Description of change:

The period “.” at the end of routine use (14) is replaced with a semicolon “;”, and the following routine use is added at the end thereof:

“(15) Disclose information to a fiscal or financial agent of the Financial Management Service, its employees, agents, and contractors, or to a contractor of the Financial Management Service, for the purpose of ensuring the efficient administration of payment processing services, subject to the same or equivalent limitations applicable to FMS officers and employees under the Privacy Act.”

* * * * *

Dated: March 25, 2003.
W. Earl Wright, Jr.,
Chief Management and Administrative Programs Officer.

[FR Doc. 03-7767 Filed 3-31-03; 8:45 am]

BILLING CODE 4810-35-P